DEPARTMENT OF TRANSPORTATION

Federal Motor Carrier Safety Administration

[Docket No. FMCSA-2010-0341]

Agency Information Collection Activities; Revision of an Approved Information Collection: Request for Revocation of Authority Granted

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This ICR notifies the FMCSA of when a motor carrier, freight forwarder, or property broker requests to amend or revoke its approved registration of authority. On August 24, 2010, FMCSA published a Federal Register notice allowing for a 60-day comment period on the ICR. Two comments in support of the ICR were received by the agency.

DATES: Please send your comments by January 13, 2011. OMB must receive your comments by this date in order to act quickly on the ICR.

ADDRESSES: All comments should reference Federal Docket Management System (FDMS) Docket Number FMCSA-2010-0341. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Ms. Tura Gatling, Customer Support Team Leader, Commercial Enforcement Division, Department of Transportation, Federal Motor Carrier Safety Administration, 1200 New Jersey Avenue, SE., Washington, DC 20590-0001. Telephone Number: (202) 385-2412; E-mail Address: tura.gatling@dot.gov. Office hours are from 8 a.m. to 5 p.m., e.t., Monday through Friday, except Federal holidays.

SUPPLEMENTARY INFORMATION:

Title: Request for Revocation of Authority.

OMB Control Number: 2126-0018.

Type of Request: Revision of a currently-approved information collection.

Form Number: OCE-46.

Respondents: Motor carriers, freight forwarders and property brokers.

Estimated Number of Respondents: 3,700.

Estimated Time per Response: 15 minutes.

Expiration Date: February 28, 2011.

Form: OCE-46.

Frequency of Response: On occasion.

Estimated Total Annual Burden: 925 hours [3,700 annual Form OCE-46 filers × 15 minutes/60 minutes per filing = 925].

Background: Title 49 of the United States Code (U.S.C.) authorizes the Secretary of Transportation (Secretary) to promulgate regulations governing the registration of for-hire motor carriers of regulated commodities (49 U.S.C. 13902), surface transportation freight forwarders (49 U.S.C. 13903), and property brokers (49 U.S.C. 13904).

Under 49 U.S.C. 13905(c), each registration is effective from the date specified. Section 13905(d) grants the Secretary the authority to amend or revoke a registration at the registrant's request. On complaint, or on the Secretary's own initiative, the Secretary may also suspend, amend, or revoke any part of the registration of a motor carrier, broker, or freight forwarder for willful failure to comply with the regulations, an order of the Secretary, or a condition of its registration.

Form OCE-46 is used by transportation entities to voluntarily apply for revocation of their registration authority in whole or in part. FMCSA uses the form to seek information concerning the registrant's docket number, name and address, and the reasons for the revocation request. This ICR is being revised due to an increase in the estimated number of annual respondents from 3,250 to 3,700 along with a new notarization fee.

Public Comments Invited: You are asked to comment on any aspect of this revised information collection request, including: (1) The necessity and usefulness of the information collection for FMCSA to meet its goal in reducing truck crashes; (2) the accuracy of the estimated burdens; (3) ways to enhance the quality, usefulness, and clarity of the collected information; and (4) ways to minimize the collection burden without reducing the quality of the collected information. The agency will summarize and/or include your comments in the request for OMB's clearance of this information collection.

Issued on: November 30, 2010.
Kelly Leone,
Associate Administrator for Research and Information Technology.

[FR Doc. 2010-31266 Filed 12-13-10; 8:45 am]

BILLING CODE 4910-EX-P